DEPARTMENT OF HOMELAND SECURITY

U.S. Customs and Border Protection

[CBP Dec. No. 12-05]

Expansion of Global Entry to Additional Airports

AGENCY: U.S. Customs and Border Protection; Department of Homeland Security.

ACTION: General notice.

SUMMARY: U.S. Customs and Border Protection (CBP) has established an international trusted traveler program, referred to as Global Entry, at twenty major U.S. airports. Global Entry allows pre-approved, low-risk participants expedited entry into the United States using Global Entry kiosks located at designated airports. This document announces the expansion of the program to include four additional airports.

DATES: Global Entry will be available at all four airport locations on or before September 22, 2012. The exact starting date for each airport location will be announced on the Web site at http://www.globalentry.gov.

FOR FURTHER INFORMATION CONTACT: Larry Panetta, Office of Field Operations, (202) 344-1253, Larry.Panetta@dhs.gov.

SUPPLEMENTARY INFORMATION:

Background

Global Entry Program

Global Entry is a voluntary program that allows for the expedited clearance of pre-approved, low-risk travelers arriving in the United States at Global Entry kiosks located at designated airports. The Global Entry final rule, published on February 6, 2012, promulgated the regulation to establish Global Entry as a permanent regulatory program and contains a detailed description of the program, the eligibility criteria, the application and selection process, and the initial airport locations. See 77 FR 5681 and 8 CFR 235.12. Travelers who wish to participate in Global Entry must apply via the CBP Global Entry Web site, http://www.globalentry.gov or through the Global On-Line Enrollment System (GOES) Web site, https://goes-app.cbp.dhs.gov. Applications must be completed and submitted electronically.

The twenty airports initially chosen for Global Entry were those facilities which typically experience the largest numbers of travelers arriving from outside of the United States. They include:

• John F. Kennedy International Airport, Jamaica, New York (JFK);

• The George Bush Intercontinental Airport, Houston, Texas (IAH);

• The Washington Dulles International Airport, Sterling, Virginia (IAD);

• Los Angeles International Airport, Los Angeles, California (LAX);

• Hartsfield-Jackson Atlanta International Airport, Atlanta, Georgia (ATL);

• Chicago O'Hare International Airport, Chicago, Illinois (ORD);

• Miami International Airport, Miami, Florida (MIA);

• Newark Liberty International Airport, Newark, New Jersey (EWR);

• San Francisco International Airport, San Francisco, California (SFO);

• Orlando International Airport, Orlando, Florida (MCO);

• Detroit Metropolitan Wayne County Airport, Romulus, Michigan (DTW);

• Dallas Fort Worth International Airport, Dallas, Texas (DFW);

• Honolulu International Airport, Honolulu, Hawaii (HNL);

• Boston—Logan International Airport, Boston, Massachusetts (BOS);

• Las Vegas—McCarran International Airport, Las Vegas, Nevada (LAS);

• Sanford—Orlando International Airport, Sanford, Florida (SSB);

• Seattle—Tacoma International Airport-SEATAC, Seattle, Washington (STT);

• Philadelphia International Airport, Philadelphia, Pennsylvania (PHL);

• San Juan—Luis Munos Marin International Airport, San Juan, Puerto Rico (SAJ);

• Ft. Lauderdale Hollywood International Airport, Fort Lauderdale, Florida (FLL), including the General Aviation Facility private aircraft terminal.

The preamble to the final rule states that when CBP is ready to expand Global Entry to additional airports and has selected the airports, CBP will publish an announcement in the Federal Register and in a posting on the Web site, http://www.globalentry.gov.

Expansion of Global Entry Program to Additional Airports

CBP is expanding the Global Entry program to include the following four additional airports: St. Paul International Airport, Minneapolis, Minnesota (MSP); Charlotte Douglas International Airport, Charlotte, North Carolina (CLT); Phoenix Sky Harbor International Airport, Phoenix, Arizona (PHX); and Denver International Airport, Denver, Colorado (DEN). Global Entry will become operational at all four airports on or before September 22, 2012. The exact starting dates of the expansion of Global Entry to each airport location will be announced on the Web site at http://www.globalentry.gov.

Dated: March 21, 2012.
Kevin K. McAleenan,
Acting Assistant Commissioner, Office of Field Operations.

[FR Doc. 2012-7227 Filed 3-23-12; 8:45 am]

BILLING CODE 9111-14-P